DEPARTMENT OF COMMERCE

International Trade Administration

[A-570-890]

Wooden Bedroom Furniture from the People's Republic of China: Initiation of Antidumping Duty New Shipper Reviews

AGENCY: Import Administration, International Trade Administration, Department of Commerce.

EFFECTIVE DATE: March 5, 2010.

SUMMARY: The Department of Commerce (“Department”) has determined that three requests for new shipper reviews of the antidumping duty order on wooden bedroom furniture from the People's Republic of China (“PRC”) meet the statutory and regulatory requirements for initiation. The period of review (“POR”) for the three new shipper reviews is January 1, 2009, through December 31, 2009.

FOR FURTHER INFORMATION CONTACT: Jeffrey Pedersen, Rebecca Pandolph, or David Edmiston, AD/CVD Operations, Office 4, Import Administration, International Trade Administration, U.S. Department of Commerce, 14th Street and Constitution Avenue, N.W., Washington, DC 20230, telephone: (202) 482-2769, (202) 482-3627, or (202) 482-0989 respectively.

SUPPLEMENTARY INFORMATION:

Background

The antidumping duty order on wooden bedroom furniture from the PRC was published on January 4, 2005. See Notice of Amended Final Determination of Sales at Less Than Fair Value and Antidumping Duty Order: Wooden Bedroom Furniture From the People's Republic of China, 70 FR 329 (January 4, 2005). On January 21, and 29, 2010, pursuant to section 751(a)(2)(B)(i) of the Tariff Act of 1930, as amended (the “Act”), and 19 CFR 351.214(c), the Department received timely requests for new shipper reviews from Dongguan Huansheng Furniture Co., Ltd. (“Dongguan Huansheng”); Hangzhou Cadman Trading Co., Ltd. (“Cadman”); and Wanvog Furniture (Kunshan) Co., Ltd. (“Wanvog”). Dongguan Huansheng and Wanvog certified that they are each the exporter and producer of, and Cadman certified that it is the exporter of, the subject merchandise upon which their respective request for a new shipper review was based.

Pursuant to section 751(a)(2)(B)(i)(I) of the Act and 19 CFR 351.214(b)(2)(i) and (b)(2)(ii)(A), Dongguan Huansheng, Cadman, and Wanvog certified that they did not export wooden bedroom furniture to the United States during the period of investigation (“POI”). Further, pursuant to 19 CFR 351.214(b)(2)(ii)(B), Haining Changbei Furniture Co., Ltd. (“Haining Changbei”), the producer of subject merchandise exported by Cadman, certified that it did not export subject merchandise to the United States during the POI. In addition, pursuant to section 751(a)(2)(B)(i)(II) of the Act and 19 CFR 351.214(b)(2)(iii)(A), Dongguan Huansheng, Cadman, and Wanvog certified that, since the initiation of the investigation, they have never been affiliated with any PRC exporter or producer who exported wooden bedroom furniture to the United States during the POI, including those not individually examined during the investigation. As required by 19 CFR 351.214(b)(2)(iii)(B), Dongguan Huansheng, Cadman, and Wanvog, also certified that their export activities were not controlled by the central government of the PRC.

In addition to the certifications described above, pursuant to 19 CFR 351.214(b)(2)(iv), Dongguan Huansheng, Cadman, and Wanvog submitted documentation establishing the following: (1) the date on which Dongguan Huansheng, Cadman, and Wanvog first shipped wooden bedroom furniture for export to the United States and the date on which the wooden bedroom furniture was first entered, or withdrawn from warehouse, for consumption; (2) the volume of their first shipment;¹ and (3) the date of their first sale to an unaffiliated customer in the United States.

¹ Dongguan Huansheng, Cadman, and Wanvog made no subsequent shipments to the United States.

The Department conducted U.S. Customs and Border Protection (“CBP”) database queries and confirmed that shipments of subject merchandise from Dongguan Huansheng, Cadman, and Wanvog had entered the United States for consumption and that liquidation of such entries had been properly suspended for antidumping duties. The Department also confirmed by examining CBP data that Dongguan Huansheng, Cadman, and Wanvogs' entries were made during the POR as specified by the Department's regulations. See 19 CFR 351.214(g)(1)(i)(B). After examining CBP data, the Department requested additional information from Wanvog. See letter to Wanvog regarding, “Request for New Shipper Review of Wooden Bedroom Furniture from the People's Republic of China,” dated February 18, 2010. On February 25, 2010, Wanvog submitted its response to the Department's request for additional information. See Wanvog's letter regarding, “New Shipper Review Request on Behalf of Wanvog Furniture (Kunshan) Co., Ltd.: Response to Supplemental Information Requests,” dated February 25, 2010. For a detailed discussion regarding Wanvog's CBP data, see Memorandum to the File through Abdelali Elouaradia, Director, AD/CVD Operations, Office 4: Initiation of AD New Shipper Review of Wanvog Furniture (Kunshan) Co., Ltd.: Wooden Bedroom from the People's Republic of China (“Wanvog Checklist”), dated concurrently with this notice.

Pursuant to 19 CFR 351.221(c)(1)(i), the Department will publish the notice of initiation of a new shipper review no later than the last day of the month following the anniversary month of the order. As explained in the memorandum from the Deputy Assistant Secretary for Import Administration, the Department has exercised its discretion to toll deadlines for the duration of the closure of the Federal Government from February 5, through February 12, 2010. Thus, the deadline for publishing this notice of initiation has been extended by seven days. The revised deadline for publishing this notice is March 8, 2010, which is the first business day after the extended deadline. See Memorandum to the Record from Ronald Lorentzen, DAS for Import Administration, regarding “Tolling of Administrative Deadlines As a Result of the Government Closure During the Recent Snowstorm,” dated February 12, 2010.

Initiation of New Shipper Reviews

Pursuant to section 751(a)(2)(B) of the Act and 19 CFR 351.214(d)(1), the Department finds that Dongguan Huansheng, Cadman, and Wanvog meet the threshold requirements for initiation of new shipper reviews of their shipments of wooden bedroom furniture from the PRC. See Memorandum to the File through Abdelali Elouaradia, Director, AD/CVD Operations, Office 4: Initiation of AD New Shipper Review of Dongguan Huansheng Furniture Co., Ltd.: Wooden Bedroom from the People's Republic of China, dated concurrently with this notice; Memorandum to the File through Abdelali Elouaradia, Director, AD/CVD Operations, Office 4: Initiation of AD New Shipper Review of Hangzhou Cadman Trading Co., Ltd.: Wooden Bedroom from the People's Republic of China, dated concurrently with this notice; and Wanvog Checklist.

The POR for the new shipper reviews of Dongguan Huansheng, Cadman, and Wanvog is January 1, 2009, through December 31, 2009. See 19 CFR 351.214(g)(1)(i)(B). The Department intends to issue the preliminary results of these reviews no later than 180 days from the date of initiation, and the final results of these reviews no later than 270 days from the date of initiation.See section 751(a)(2)(B)(iv) of the Act.

It is the Department's usual practice, in cases involving non-market economies, to require that a company seeking to establish eligibility for an antidumping duty rate separate from the country-wide rate provide evidence of de jure and de facto absence of government control over the company's export activities. Accordingly, we will issue questionnaires to Dongguan Huansheng, Cadman, and Wanvog, which will include a separate rate section. The review of each exporter will proceed if the response provides sufficient indication that the exporter is not subject to either de jure or de facto government control with respect to its exports of wooden bedroom furniture.

We will instruct CBP to allow, at the option of the importer, the posting, until the completion of the review, of a bond or security in lieu of a cash deposit for certain entries of the subject merchandise from Dongguan Huansheng, Cadman, and Wanvog in accordance with section 751(a)(2)(B)(iii) of the Act and 19 CFR 351.214(e). Because Dongguan Huansheng, and Wanvog certified that they both produce and export the subject merchandise, the sales of which form the basis for their new shipper review requests, we will instruct CBP to permit the use of a bond only for entries of subject merchandise which the respondent both produced and exported. Because Cadman certified that it exported subject merchandise produced by Haining Changbei, the sales of which form the basis for Cadman's request for a new shipper review, we will instruct CBP to permit the use of a bond only for entries of the subject merchandise produced by Haining Changbei and exported by Cadman in accordance with section 751(a)(2)(B)(iii) of the Act and 19 CFR 351.214(e).

Interested parties requiring access to proprietary information in these new shipper reviews should submit applications for disclosure under administrative protective order in accordance with 19 CFR 351.305 and 351.306.

This initiation and notice are published in accordance with section 751(a)(2)(B) of the Act and 19 CFR 351.214 and 351.221(c)(1)(i).

Dated: March 1, 2010.
Edward C. Yang,
Acting Deputy Assistant Secretary for Antidumping and Countervailing Duty Operations.

[FR Doc. 2010-4709 Filed 3-4-10; 8:45 am]

BILLING CODE 3510-DS-S